FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier Ocean Transportation Intermediary Applicants

John M. Crawley, LLC dba Sojourn Marine dba JMC Global, 42 Riva Row, The Woodlands, TX 77380, Officers: John M. Crawley, Managing Partner (Qualifying Individual), Linda Crawley, Partner.

Orca Int'l Freight Forwarders Inc., 6993 NW., 50th Street, Miami, FL 33166, Officers: Paul E. Rodriguez, President (Qualifying Individual), Marlene Robles, Vice President.

Argo Logistics, 38 Dogwood Drive, Edison, NJ 08820, Shalva G. Pirtshalava, Sole Proprietor.

North Star Container, LLC, 1400 Metro Blvd., Suite 190, Edina, MN 55439, Officers: Roland Henneberger, Chief Logistics Officer (Qualifying Individual), Craig Damstrom, CEO.

JH International Shipping, Inc., 437 Rozzi Place, #115, S. San Francisco, CA 94080, Officers: Sang Bae Noh, President (Qualifying Individual), AE Sook Noh, Secretary.

Expotrans International Inc., 1, Whitford Court, Brampton, Ontario, L6R 252 Canada, Officer: Bimal Fernando, President (Qualifying Individual).

PJT Logistics Service Inc., 90 Jacobus Avenue, South Kearny, NJ 07032, Officers: James G. Tabano, President (Qualifying Individual), Peter J. Toscano, Vice President.

SJT Trading Corp., 6500 NW. 72 Avenue, Miami, FL 33166, Officers: Edith Velasco, Secretary (Qualifying Individual), Leandro Camarolta, President.

Esolutions Logistics, Inc., 8717 Aviation Blvd., Inglewood, CA 90301, Officer: Tan Sek, President (Qualifying Individual).

Non-Vessel-Operating Common Carrier and Ocean Freight Forwarder Transportation Intermediary Applicants

Absolute Shipping LLC, 701 Newark Avenue, Suite LL1, Elizabeth, NJ 07208, Officer: Steven De Core, President (Qualifying Individual).

Ten Dragons Logistics Corp., 24051 Lapwing Lane, Laguna Niguel, CA 92677, Officer: William L. Yonan, President (Qualifying Individual).

E-Cargo International Group, 6600 NW. 82 Avenue, Miami, FL 33166, Officers: Edward Negron, Secretary (Qualifying Individual), Lupe Dovi, President.

KSI Corp. dba KSI Container Line, 5000 Shoreline Court, Suite 210, So. San Francisco, CA 94080, Officers: James C. Wu, Vice President (Qualifying Individual), Carl Bellante, CEO.

Accelerated International Forwarders, LLC, 3726 Lake Avenue, Fort Wayne, IN 46805, Officers: Jamal Outa, Managing Member (Qualifying Individual), Katreen Outa, Member.

Zai Cargo, Inc., 8229 NW. 66th, Miami, FL 33166, Officer: Horacio Zapata, President (Qualifying Individual).

Ocean Freight Forwarder—Ocean Transportation Intermediary Applicant

Seattle Export Shippers' Association, 3629 Duwamish Avenue S, Seattle, WA 98134, Officers: Dale Frazier, Exec. Director (Qualifying Individual), Paul Meyer, President.

Dated: April 27, 2007.
Bryant L.VanBrakle,
Secretary.

[FR Doc. E7-8392 Filed 5-1-07; 8:45 am]

BILLING CODE 6730-01-P